DEPARTMENT OF THE INTERIOR

National Park Service

30-Day Notice of Request for Extension of a Currently Approved Information Collection

AGENCY: Department of the Interior, National Park Service, Land and Water Conservation Fund State Assistance and Urban Park and Recreation Recovery Programs.

ACTION: Notice of submission to OMB and request for comments.

SUMMARY: In accordance with the Paperwork Reduction Act of 1995 (Pub. L. 104-13), this notice announces the National Park Service's (NPS) intention to request an extension for eight currently approved information collection requests (ICR) for the Land and Water Conservation Fund (LWCF) and Urban Park and Recreation Recovery (UPARR) grant programs as described below. Comments are invited on: (1) The need for the information including whether the information has practical utility; (2) the accuracy of the reporting burden estimate; (3) ways to enhance the quality, utility, and clarity of the information to be collected; and (4) ways to minimize the burden of the information collection on respondents, including use of automated collection techniques or other forms of information technology.

1. LWCF Description and Notification (DNF, NPS 10-903. OMB 1024-0031). The DNF is necessary to provide data input into the NPS automated project information system which provides timely data on projects funded over the life of the LWCF program. Respondents: 56 State governments, DC and territories. Estimated Annual Reporting Burden: 115 hours. Estimated Average Burden Hours Per Response: 0.25 hours. Estimated Frequency of Response: 450 nationwide.

2. LWCF Program Performance Report (OMB 1024-0332). As required by OMB Circular A-102, grantee must submit performance reports which describe the status of the work required under the project scope. Respondents: 56 States, DC and Territories. Estimated Annual Reporting Burden: 700 hours. Estimated Average Burden Hours Per Response: 1.0 hours. Estimated Frequency of Response: 700 nationwide.

3. LWCF Project Agreement and Amendment Form (NPS 10-902 and 10-902a, respectively, OMB 1024-0033). The Project Agreement and Amendment Forms set forth the obligations assumed by the State through its acceptance of federal assistance under the LWCF Act and any special terms and conditions. Respondents: 56 State governments, DC and territories. Estimated Annual Reporting Burden: 450 hours. Estimated Average Burden Hours Per Response: 1.0 hours. Estimated Frequency of Response: 450 nationwide.

4. LWCF On-Site Inspection Report (OMB 1024-0034). The On-Site Inspection Reports are used to insure compliance by grantees with applicable Federal laws and program guidelines, and to insure the continued viability of the funded site. Respondents: 56 State governments, DC and territories. Estimated Annual Reporting Burden: 3,700 hours. Estimated Average Burden Hours Per Response: 0.5 hours. Estimated Frequency of Response: 7,400 nationwide.

5. LWCF Conversion of Use Provision (OMB 1024-0047). To convert assisted sites to other than public outdoor recreation, LWCF project sponsors must provide relevant information necessary to comply with Section 6(f)(3) of the LWCF Act of 1965. Respondents: 56 State governments, DC and territories. Estimated Annual Reporting Burden: 1,750 hours. Estimated Average Burden Hours Per Response: 50 nationwide.

6. UPARR Project Performance Report (OMB 1024-0028). As required by OMB Circular A-102, grant recipients must submit performance reports which describe the status of the work required under the project scope. Respondents: Urban cities and counties. Estimated Annual Reporting Burden: 248 hours. Estimated Average Burden Hours Per Response: 1.5 hours. Estimated Frequency of Response: 164 nationwide.

7. UPARR Conversion of Use Provision (OMB 1024-0048). To convert assisted sites to other than public outdoor recreation, UPARR project sponsors must provide relevant information necessary to comply with Section 1010 of the UPARR Act of 1978. Respondents: Urban cities and counties. Estimated Annual Reporting Burden: 75 hours. Estimated Average Burden Hours Per Response: 25 hours. Estimated Frequency of Response: 3 nationwide.

8. UPARR Project Agreement and Amendment Form (NPS 10-912 and 10-914, respectively, OMB 1024-0089). The Project Agreement and Amendment forms set forth the obligations assumed by grant recipients through their acceptance of federal assistance under the UPARR Act and any special terms and conditions. Respondents: Urban cities and counties. Estimated Annual Reporting Burden: 20 hours. Estimated Average Burden Hours Per Response: 1.0 hours. Estimated Frequency of Response: 20 nationwide.

There were no public comments received as a result of publishing on November 5, 2003, in the Federal Register a 60-day notice of intention to request clearance for this ICR.

DATES: Public comments on these eight proposed ICRs will be accepted on or before April 26, 2004.

ADDRESSES: You may submit comments directly to the Desk Officer for the Department of the Interior, Office of Information and Regulatory Affairs, OMB, by fax at 202/395-6566, or by electronic mail at oira_docket@omb.eop.gov. Please also mail or hand carry a copy of your comments to Michael D. Wilson, Chief, Recreation Programs Division, National Park Service, Department of the Interior, 1849 C Street, NW., Washington, DC 20240, or by electronic mail to michael_d_wilson@nps.gov.

All comments will become a matter of public record.

Dated: February 26, 2004.
Leonard E. Stowe,
Acting, NPS Information Collection Clearance Officer, National Park Service.

[FR Doc. 04-6639 Filed 3-24-04; 8:45 am]

BILLING CODE 4312-52-M